DEPARTMENT OF AGRICULTURE

Forest Service

Lake Tahoe Basin Federal Advisory Committee

AGENCY: Office of the Secretary, USDA.

ACTION: Notice of charter renewal.

SUMMARY: The Secretary of Agriculture has renewed the charter of the Lake Tahoe Federal Advisory Committee. Chartered under the Federal Advisory Committee Act, the Committee provides advice to the Secretary of Agriculture and to the Federal Interagency Partnership on how the Partnership can best fulfill its duties, pursuant to Executive Order 13057, to protect the extraordinary natural, recreational, and ecological resources in the Lake Tahoe Region.

DATES: The charter renewal was effective August 5, 2008. As provided by law, the charter will expire 24 months from the date of renewal.

FOR FURTHER INFORMATION CONTACT: Terri Marceron, Forest Supervisor, Lake Tahoe Basin Management Unit, telephone (530) 573-2773.

Individuals who use telecommunication devices for the deaf (TDD) may call the Federal Information Relay Service (FIRS) at 1-800-877-8339 between 8 a.m. and 8 p.m., Eastern Standard Time, Monday through Friday.

SUPPLEMENTARY INFORMATION: Pursuant to the Federal Advisory Committee Act (5 U.S.C. App.), notice is hereby given that the Secretary of Agriculture has renewed the charter of the Lake Tahoe Basin Federal Advisory Committee (Committee). The purpose of the Committee is to provide advice to the Secretary of Agriculture and to the Federal Interagency Partnership (Partnership) on how the Partnership can best fulfill its duties to protect the extraordinary natural, recreational, and ecological resources in the Lake Tahoe Region. The Partnership was established in accordance with Executive Order 13057, “Federal Actions in the Lake Tahoe Region.” The Secretary has determined that the work of the Committee is in the public interest and relevant to the duties of the Department of Agriculture.

The Committee will meet on a quarterly basis, conduct public meetings to discuss management strategies, gather information and review Federal agency accomplishments, and prepare a progress report every 6 months for submission to regional Federal executives. Three members of the Committee have been selected as members-at-large. The others have been selected to represent each of the following interests: Gaming, environmental, national environmental, ski resorts, North Shore economic/recreation, South Shore economic/recreation, resort associations, education, property rights advocates, science and research, local government, Washoe Tribe, State of California, State of Nevada, Tahoe Regional Planning Agency, labor, and transportation. The Committee Chair will be recommended by the Committee and approved by the Secretary. A vacancy on the Committee will be filled in the manner in which the original appointments were made.

The appointment of members to the Committee was made by the Secretary of Agriculture. Equal opportunity practices, in line with USDA policies, will be followed in all appointments to the Committee. To ensure that the recommendations of the Committee have taken into account the needs of the diverse groups served by the Department, membership includes to the extent practicable individuals with demonstrated ability to represent minorities, women, persons with disabilities, and senior citizens.

Dated: September 17, 2008.
Boyd K. Rutherford,
Assistant Secretary for Administration.

[FR Doc. E8-22342 Filed 9-23-08; 8:45 am]

BILLING CODE 3410-11-P